DEPARTMENT OF COMMERCE

International Trade Administration

[C-570-155]

Certain Pea Protein From the People's Republic of China: Postponement of Preliminary Determination in the Countervailing Duty Investigation

AGENCY: Enforcement and Compliance, International Trade Administration, Department of Commerce.

DATES: Applicable September 8, 2023.

FOR FURTHER INFORMATION CONTACT: Kristen Johnson and Laura Griffith, AD/CVD Operations, Office III, Enforcement and Compliance, International Trade Administration, U.S. Department of Commerce, 1401 Constitution Avenue NW, Washington, DC 20230; telephone: (202) 482-4793 and (202) 482-6430, respectively.

SUPPLEMENTARY INFORMATION:

Background

On August 1, 2023, the U.S. Department of Commerce (Commerce) initiated a countervailing duty (CVD) investigation of imports of certain pea protein from the People's Republic of China.¹ Currently, the preliminary determination is due no later than October 5, 2023.

¹ See Certain Pea Protein from the People's Republic of China: Initiation of Countervailing Duty Investigation, 88 FR 52116 (August 7, 2023) (Initiation Notice).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On August 29, 2023, the petitioner ² submitted a timely request that Commerce postpone the preliminary determination in this investigation.³ The petitioner stated that a postponement of the preliminary determination is necessary because the mandatory respondents have not yet submitted initial questionnaire responses and additional time will be needed to review those responses and issue supplemental questionnaires should there be deficiencies.⁴

² The petitioner is PURIS Proteins, LLC.

³ See Petitioner's Letter, “Request for Extension of Preliminary Determination Deadline,” dated August 29, 2023.

⁴ Id.

In accordance with 19 CFR 351.205(e), the petitioner has stated the reasons for requesting a postponement of the preliminary determination, and Commerce finds no compelling reason to deny the request. Therefore, in accordance with section 703(c)(1)(A) of the Act, Commerce is postponing the deadline for the preliminary determination to no later than 130 days after the date on which this investigation was initiated, i.e., December 11, 2023.⁵ Pursuant to section 705(a)(1) of the Act and 19 CFR 351.210(b)(1), the deadline for the final determination of this investigation will continue to be 75 days after the date of the preliminary determination.

⁵ Postponing the preliminary determination to 130 days after initiation would place the deadline on Saturday, December 9, 2023. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: September 1, 2023.
Lisa W. Wang,
Assistant Secretary for Enforcement and Compliance.

[FR Doc. 2023-19386 Filed 9-7-23; 8:45 am]

BILLING CODE 3510-DS-P